DEPARTMENT OF TRANSPORTATION

Office of the Secretary

Notice of Request for Extension of a Currently Approved Information Collection

AGENCY: Office of the Secretary, DOT.

SUMMARY: In accordance with the Paperwork Reduction Act of 1995 (44 U.S.C. chapter 35, as amended) the notice announces the Department of Transportation's (DOT) intention to request an extension to a currently approved information collection.

DATES: Comments on this notice must be received August 19, 2002.

ADDRESSES: Four (4) copies of any comments should be sent to the Pricing and Multilateral Affairs Division (X-43), Office of International Aviation, Office of the Secretary, U.S. Department of Transportation, 400 7th Street, SW., Washington, DC 20590.

FOR FURTHER INFORMATION CONTACT: Bernice C. Gray or John H. Kiser, Office of the Secretary, Office of International Aviation, X-43, Department of Transportation, 400 Seventh Street, SW., Washington, DC 20590, (202) 366-2435.

SUPPLEMENTARY INFORMATION: Title: Tariffs.

OMB Control Number: 2106-0009.

Expiration Date: September 30, 2002.

Type of Request: Extension of a currently approved information collection.

Abstract: Chapter 415 of Title 49 of the United States Code requires that every air carrier and foreign air carrier file with the Department of Transportation (DOT), publish and keep open (i.e. post) for public inspection, tariffs showing all “foreign” or international fares, and related charges for air transportation between points served by it, and any other air carrier or foreign air carrier when through services, fares and related charges have been established; and showing, to the extent required by DOT regulations, all classifications, rules, regulations, practices, and services in connection with such air transportation. Once tariffs are filed and approved by DOT, they become a legally binding contract of carriage between carriers and users of foreign air transportation.

Part 221 of the Department's Economic Regulations (14 CFR part 221) sets forth specific technical and substantive requirements governing the filing of tariff material with the DOT Office of International Aviation's Pricing and Multilateral Affairs Division. A carrier initiates an electronic tariff filing whenever it wants to amend an existing tariff for commercial or competitive reasons or when it desires to file a new one. Electronic tariffs filed pursuant to part 221 are used by carriers, computer reservations systems, travel agents, DOT, other government agencies and the general public to determine the prices, rules and related charges for international passenger air transportation. In addition, DOT needs U.S. and foreign air carrier passenger tariff information to monitor international air commerce, carry out carrier route selections and conduct international negotiations.

New part 293 exempts carriers from their statutory and regulatory duty to file international tariffs in certain specific markets.

Respondents: The vast majority of the air carriers filing international tariffs are large operators with revenues in excess of several million dollars each year. Small air carriers operating aircraft with 60 seats or less and 18,000 pounds payload or less that offer on-demand air-taxi service are not required to file such tariffs.

Estimated Total Annual Burden on Respondents: 650,000 hours.

Estimated Number of Respondents: 230; Form(s) 13,340 electronic filings or applications per annum.

Average Annual Burden Hours per Respondent: 2,826 hours.

Comments are invited on: (a) Whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Issued in Washington DC, on June 12, 2002.
John H. Kiser,
Chief, Pricing and Multilateral Affairs Division, Office of International Aviation.

[FR Doc. 02-15284 Filed 6-17-02; 8:45 am]

BILLING CODE 4910-62-P